DEPARTMENT OF ENERGY

Federal Energy Regulatory Commission

[Project No. 13417-000]

Western Technical College; Notice of Preliminary Permit Application Accepted for Filing and Soliciting Comment; Motions To Intervene, and Competing Applications

June 25, 2009.

On March 30, 2009, Western Technical College filed an application, pursuant to section 4(f) of the Federal Power Act, proposing to study the feasibility of the Angelo Dam Project, to be located on the La Crosse River in Monroe County, Wisconsin, and near the town of Sparta, Wisconsin.

The proposed project would consist of: (1) The existing Angelo dam consisting of a 124-foot-long right earth embankment, a 91.5-foot-long, 20-foot-high concrete gravity spillway structure, and a 405-foot-long left earth embankment; (2) an existing 52-acre impoundment with 140 acre-feet of usable storage; (3) a proposed 9-foot-diameter intake structure on the right side of the spillway; (4) a proposed forebay; (5) a proposed 20 by 40 by 28-foot powerhouse containing one generating unit with a capacity of 205 kilowatts; and (5) a 1,540-foot-long, 600 volt transmission line. The project would have an estimated average annual generation of 948,500 kilowatt-hours.

Applicant Contact: Mr. Stephen C. Doret, Mill Road Engineering, 23 Mill Rd., Westborough, MA 01581, phone (508) 366-5833.

FERC Contact: Michael Spencer, (202) 502-6093.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp.

More information about this project can be viewed or printed on the “eLibrary” link of the Commission's Web site at http://www.ferc.gov/docs-filing/elibrary.asp. Enter the docket number (P-13417) in the docket number field to access the document. For assistance, call toll-free 1-866-208-3372.

Kimberly D. Bose,
Secretary.

[FR Doc. E9-15733 Filed 7-2-09; 8:45 am]

BILLING CODE P